DEPARTMENT OF TRANSPORTATION

Federal Aviation Administration

14 CFR Part 39

[Docket No. 99-CE-62-AD; Amendment 39-11874; AD 2000-17-01]

RIN 2120-AA64

Airworthiness Directives; Fairchild Aircraft, Inc. Models SA226-T, SA226-AT, SA226-T(B), SA226-TC, SA227-AT, SA-227-TT, and SA-227-AC Airplanes

AGENCY: Federal Aviation Administration, DOT.

ACTION: Final rule.

SUMMARY: This amendment supersedes Airworthiness Directive (AD) 92-01-02, which currently requires you to accomplish the following on certain Fairchild Aircraft SA226 and SA227 series airplanes: modify the parking brake system; and inspect (repetitively) certain landing gear brake assemblies. That AD resulted from wheel brake system malfunctions on several of the affected airplanes where regular brake system maintenance had been performed. This AD retains the modification and inspection requirements of AD 92-01-02 and incorporates inspection and replacement requirements for additional landing gear brake assemblies. The actions specified by this AD are intended to prevent wheel brake system malfunctions that could result in a fire in the brake area.

DATES: This AD becomes effective on October 6, 2000.

The Director of the Federal Register previously approved the incorporation by reference of certain publications listed in the regulation as of January 16, 1992 (56 FR 65824, December 19, 1991).

ADDRESSES: You may get the service information referenced in this AD from Fairchild Aircraft, Inc., P.O. Box 790490, San Antonio, Texas 78279-0490; telephone: (210) 824-9421; facsimile: (210) 820-8609 and B.F. Goodrich Aircraft Wheels and Brakes, P.O. Box 340, Troy, Ohio 45373.

You may examine this information at the Federal Aviation Administration (FAA), Central Region, Office of the Regional Counsel, Attention: Rules Docket No. 99-CE-62-AD, 901 Locust, Room 506, Kansas City, Missouri 64106; or at the Office of the Federal Register, 800 North Capitol Street, NW, suite 700, Washington, DC.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Discussion

What Caused This AD?

AD 92-01-02 , Amendment 39-39-8125 (56 FR 65824, December 19, 1991), currently requires you to accomplish the following on certain Fairchild SA226 and SA227 series airplanes:

—Modify the parking brake system; and

—Inspect (repetitively) certain landing gear brake assemblies.

The inspection requirements of AD 92-01-02 only apply to airplanes equipped with B.F. Goodrich landing gear brake assemblies, part number 2-1203-3. The FAA has received service reports on B.F. Goodrich landing gear brake assemblies, part numbers 2-1203 and 2-1203-01, that indicate these brake assemblies should also be inspected for wear.

Has FAA Taken Any Action to This Point?

We issued a proposal to amend part 39 of the Federal Aviation Regulations (14 CFR part 39) to include an AD that would apply to certain Fairchild SA226 and SA227 series airplanes. This proposal published in the Federal Register as a notice of proposed rulemaking (NPRM) on February 16, 2000 (65 FR 7794). The NPRM proposed to supersede AD 92-01-02, Amendment 398125, by retaining the modification and inspection requirements of AD 92-01-02, and would incorporate the additional landing gear brake assemblies previously referenced.

What Is the Potential Impact if FAA Took No Action?

These actions are necessary to prevent wheel brake system malfunctions. If we did not take action, this could result in a fire in the brake area.

Was the public invited to comment?

The FAA encouraged interested persons to participate in the making of this amendment. The following presents the comments received on the proposal and FAA's response to each comment:

Comment Issue No. 1: Incorrect Part Number Referenced

What Is the Commenters' Concern?

Two commenters state that FAA incorrectly referenced in several places the part number (P/N) 2-1203-1 B.F. Goodrich landing gear brake assemblies as P/N 2-1203-01.

What Is FAA's Response to the Concern?

We concur and have corrected all reference to this part number in the final rule.

Comment Issue No. 2: Change the Wording in the AD

What Is the Commenter's Concern?

One commenter requests that FAA revise the last sentence in paragraph 3 of the Discussion section in the NPRM to indicate that our intent is to reduce the wear and clearance limits, not focus on the inspection. The commenter states that because all brake assemblies are inspected for wear and clearance per the aircraft maintenance manual, the emphasis of the AD should be to reduce the maximum allowed clearance.

What Is FAA's Response to the Concern?

We agree with the proposed wording change and will incorporate it into the final rule as appropriate. We also concur that the focus should be on reducing the maximum allowed clearance. However, the AD must also emphasize the inspection since one of the main actions of the AD is to repetitively inspect and conduct measurements of the brake wear and clearance limits.

Comment Issue No. 3: Service Difficulty Reports

What Is the Commenters' Request?

One commenter requests copies of the service difficulty reports on the P/N 2-1203 landing gear brake assemblies.

What Is FAA's Response to the Request?

You may obtain service difficulty reports from: Regulatory Support Division, AFS-600, Federal Aviation Administration (FAA), P.O. Box 25082, Oklahoma City, OK 73125; Telephone: (405) 954-6501, Facsimile: (405) 954-4104.

Comment Issue No. 4: Apply the AD to Brake Assemblies Modified by a Rapco Parts Manufacture Approval (PMA)

What Is the Commenters' Concern?

One commenter states that, as written, the proposed AD does not apply to B.F. Goodrich brake assemblies that have been modified with Rapco PMA parts. The commenter requests that FAA change the proposed AD to reflect these parts.

What Is FAA's Response to the Concern?

We concur that the NPRM, as written, may not communicate that the action should also affect B.F. Goodrich brake assemblies modified with Rapco PMA parts. FAA policy is to not reference specific equivalent PMA parts in AD's. If the PMA parts are not equivalent and the unsafe condition applies specifically to these PMA parts, we will write the AD against these parts. However, we generally include a statement of “or FAA-approved equivalent part number(s)” after the referenced part number to account for PMA equivalent parts. The FAA inadvertently left this phrase out of the NPRM, and will add it to the final rule accordingly. If these Rapco PMA parts are installed, then the actions of this AD will apply because the parts are an FAA-approved equivalent to the B.F. Goodrich brake assemblies.

Comment Issue No. 5: The Cost Impact Is Incorrect Because FAA Does Not Take Into Account the Reduced Life of the Brake Linings

What Is the Commenters' Concern?

One commenter states that FAA did not take into account the effect the reduced life of the brake linings have on the cost impact of the proposed AD. We infer that the commenter wants us to change the cost impact to reflect this effect.

What Is FAA's Response to the Concern?

We concur that the reduced allowable wear life of the B.F. Goodrich brake assemblies will present a cost impact. However, we are unable to determine these associated costs because we cannot predict the usage rate of the Fairchild SA226 and SA227 series airplane fleet. Therefore, we are not changing the AD as a result of this comment.

Comment Issue No. 6: The Proposed Compliance Time Does Not Account for the Reduced Wear and Clearance Limits

What Is the Commenters' Concern?

One commenter states that FAA did not take into account the effect that the reduced wear and clearance limits would have when establishing the compliance times. The commenter suggests inspection of the brake assemblies every 50 landings because the brake life will be reduced 23.4 percent and the average life will be approximately 6 months of service.

What Is FAA's Response to the Concern?

We partially concur with the commenter's assessment of the reduced brake life. Assuming a nominal adjustment brake clearance of .0175 inches, we calculate the reduction in brake wear life to 17.7 percent instead of 23.4 percent when the maximum clearance is reduced from .300 inches to .250 inches.

The repetitive inspection compliance time interval will remain at 250 hours time-in-service (TIS), unless the clearance is .200 inches or more, but less than .250 inches. If the clearance is in this range, you would have to inspect at intervals of 75 hours TIS until the brake assembly is replaced (when the maximum clearance is .250 inches or more).

Comment Issue No. 7: Certain Aspects of the Plain Language Writing Style Are Not Appropriate for AD's

What Is the Commenters' Concern?

One commenter provides feedback to FAA on its initiative to improve the writing style used in regulatory documents. The initiative is based on a Presidential memorandum of June 1, 1998, which requires federal agencies to communicate more clearly with the public.

What Is FAA's Response to the Concern?

We appreciate the feedback on our initiative to better communicate with those affected by airworthiness directives. We will consider the specific ideas of the commenter, along with those that others submitted on other AD actions, in determining what changes or improvements are needed in the way we draft AD's.

The FAA's Determination

What Is FAA's Final Determination on This Issue?

We carefully reviewed all available information related to the subject presented above and determined that air safety and the public interest require the adoption of the rule as proposed except for the changes discussed above. These changes provide the intent that was proposed in the NPRM for correcting the unsafe condition and do not impose any additional burden than what was intended in the NPRM.

Are There Differences Between This AD and the Service Information?

B.F. Goodrich Service Letter No. 1498, dated October 26, 1989, specifies maximum clearance brake wear limits of .300-inch for the B.F. Goodrich landing gear brake assemblies, part numbers 2-1203 and 2-1203-01. This AD will establish these limits at .250-inch to coincide with the wear limits on the part number 2-1203-03 landing gear brake assemblies.

Cost Impact

How Many Airplanes Does the Proposed AD Impact?

The FAA estimates that 330 airplanes in the U.S. registry will be affected by this AD.

What Is the Cost Impact of the Initial Inspection on Owners/Operators of the Affected Airplanes?

We estimate that it will take approximately 6 workhours per airplane to accomplish the modification and initial inspection, and that the average labor rate is approximately $60 an hour. Parts to accomplish the modification cost approximately $500 per airplane. Based on these figures, the total cost impact of this AD on U.S. operators is estimated to be $283,800, or $860 per airplane.

What About the Cost of Repetitive Inspections?

The figures above only take into account the cost of the initial inspection and do not take into account the cost of repetitive inspections. The FAA has no way of determining how many repetitive inspections each owner/operator of the affected airplanes will incur.

What Is the Cost if I Already Accomplished the Initial Inspection and Modification as Required by AD 92-01-02?

The only impact for those airplane owners/operators who already complied with both the initial inspection and modification requirements of AD 92-01-02 will be the cost of the repetitive inspections. The only difference between this AD and AD 92-01-02 is the addition (to the inspection requirement) of the B.F. Goodrich landing gear brake assemblies, part numbers 2-1203 and 2-1203-01.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by removing Airworthiness Directive (AD) 92-01-02, Amendment 39-8125 (56 FR 65824, December 19, 1991), and by adding a new AD to read as follows:

2000-17-01 Fairchild Aircraft, Inc.: Amendment 39-11874; Docket No. 99-CE-62-AD; Supersedes AD 92-01-02, Amendment 39-8125.

(a) What airplanes are affected by this AD? The following airplane models and serial numbers, certificated in any category.

Model | Serial numbers
SA226-T | T201 through T275, and T277 thru T291.
SA226-T(B) | T(B) 276 and T(B) 292 through T(B) 417.
SA226-AT | AT001 through AT074.
SA226-TC | TC201 through TC419.
SA227-TT | TT421 through TT555.
SA227-AT | AT423 through AT599.
SA227-AC | AC406, AC415, AC416, and AC420 through AC599.

(b) Who must comply with this AD? Anyone who wishes to operate any of the above airplanes on the U.S. Register must comply with this AD.

(c) What problem does this AD address? The actions specified by this AD are intended to prevent wheel brake system malfunctions that could result in a fire in the brake area.

(d) What actions must I accomplish to address this problem? To address this problem, you must accomplish the following:

Action | Compliance time | Procedures
(1) Modification: For all affected airplanes, modify the parking days after brake system | Within 90 calendar days after January 16, 1992 (the effective date of AD 92-01-02) | The instructions included in either Fairchild Service Bulletin (SB) 227-32-017 or Fairchild SB 226-32-049, both Issued: November 14, 1984, as applicable.
(2) Initial Inspection: For all affected airplanes equipped with a B.F. Goodrich landing gear brake assembly, part number 2-1203, 2-1203-1, 2-1203-3, or an FAA-approved equivalent part number, inspect and conduct measurements of the brake wear and clearance limits | Required at the times that follow: (i) For any installed B.F. Goodrich landing gear brake assembly, P/N 2-1203-3 (or FAA-approved equivalent part number): Within 100 hours time-in-service (TIS) after January 16, 1992 ((the effective date of AD 92-01-02) (ii) For any installed B.F. Goodrich landing gear brake assembly, P/N 2-1203 or 2-1203-1 (or FAA-approved equivalent part number): Within the next 100 hours TIS after October 6, 200 (the effective date of this AD) (iii) For any B.F. Goodrich landing gear brake assembly, P/N 2-1203, 2-1203-1, or 2-1203-3 (or FAA-approved equivalent part number), that is installed after October 6, 2000 (the effective date of this AD): Within 250 hours TIS after installation | Use the procedures in B.F. Goodrich No. 1498, Issued: October 26, 1989. The wear and maximum clearance limits specified in this AD take precedence over those specified in the service information.
(3) Overhaul or Replacement: For all affected airplanes equipped with a B.F. Goodrich landing gear brake assembly, part number 2-1203, 2-1203-1, 2-1203-3, or an FAA-approved equivalent part number, if wear measure is found that exceeds the maximum allowable clearance (0.250-inch (6.35 millimeter), overhaul or replace the landing gear brake assembly | Prior to further flight after the inspection where the wear or maximum clearance is exceed | The instructions included in the applicable maintenance manual.
(4) Repetitive Inspections: For all affected airplanes equipped with a B.F. Goodrich landing gear brake assembly, part number 2-1203, 2-1203-1, 2-1203-3, or an FAA-approved equivalent part number, repetitively inspect and conduct measurements of the brake wear and clearance limits | (i) If the clearance is .200 inches or more, but is less than .250 inches: inspect at 75-hour TIS intervals until the clearance is .250 inches or more at which time replacement is required (ii) If clearance is found that is less than .200 inches: inspect at 250-hour TIS intervals until the clearance is .200 inches or more | Use the procedures in B.F. Goodrich Service Bulletin No. 1498, Issued: October 26, 1989. The wear and maximum clearance limits specified in this AD take precedence over those specified in the service information.

(e) Can I comply with this AD in any other way? (1) You may use an alternative method of compliance or adjust the compliance time if:

(i) Your alternative method of compliance provides an equivalent level of safety; and

(ii) The Manager, Fort Worth Airplane Certification Office, approves your alternative. Submit your request through an FAA Principal Maintenance Inspector, who may add comments and then send it to the Manager.

(2) Alternative methods of compliance approved in accordance with AD 92-01-02, which is superseded by this AD, are approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact the Fort Worth Airplane Certification Office, 2601 Meacham Boulevard, Fort Worth, Texas 76193-0150; telephone: (817) 222-5133; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with B.F. Goodrich Service Bulletin No. 1498, Issued: October 26, 1989; and Fairchild Service Bulletin 227-32-017 or Fairchild Service Bulletin 226-32-049, both Issued: November 14, 1984.

The Director of the Federal Register previously approved this incorporation by reference under 5 U.S.C. 552(a) and 1 CFR part 51, as of January 16, 1992 (56 FR 65824; December 19, 1991). You can get copies from Fairchild Aircraft, Inc., P.O. Box 790490, San Antonio, Texas 78279-0490; and B.F. Goodrich Aircraft Wheels and Brakes, P.O. Box 340, Troy, Ohio 45373. You can look at copies at the FAA, Central Region, Office of the Regional Counsel, 901 Locust, Room 506, Kansas City, Missouri; or at the Office of the Federal Register, 800 North Capitol Street, NW, suite 700, Washington, DC.

(i) Does this AD action affect any existing AD actions? This amendment supersedes AD 92-01-02, Amendment 39-8125.

(j) When does this amendment become effective? This amendment becomes effective on October 6, 2000.

Issued in Kansas City, Missouri, on August 11, 2000.
Marvin R. Nuss,
Acting Manager, Small Airplane Directorate, Aircraft Certification Service.

[FR Doc. 00-21053 Filed 8-21-00; 8:45 am]

BILLING CODE 4910-13-U